NATIONAL AERONAUTICS AND SPACE ADMINISTRATION

[Notice (04-084)]

Notice of Prospective Patent License

AGENCY: National Aeronautics and Space Administration.

ACTION: Notice of prospective patent license.

SUMMARY: NASA hereby gives notice that Setra Systems, Inc., of Massachusetts has applied for an exclusive patent license to practice the invention described and claimed in U.S. Patent No. 5,693,871 entitled “Low Differential Pressure Generator,” which is assigned to the United States of America as represented by the Administrator of the National Aeronautics and Space Administration. Written objections to the prospective grant of a license should be sent to John F. Kennedy Space Center.

DATES: Responses to this Notice must be received by July 28, 2004.

FOR FURTHER INFORMATION CONTACT: Randall M. Heald, Assistant Chief Counsel/Patent Counsel, John F. Kennedy Space Center, Mail Code: CC-A, Kennedy Space Center, FL 32899, telephone (321) 867-7214.

Dated: June 30, 2004.
Keith T. Sefton,
Chief of Staff, Office of the General Counsel.

[FR Doc. 04-15839 Filed 7-12-04; 8:45 am]

BILLING CODE 7510-01-P